DEPARTMENT OF TRANSPORTATION

49 CFR Part 39

RIN 2105-AB87

Transportation for Individuals With Disabilities: Passenger Vessels

AGENCY: Office of the Secretary, U.S. Department of Transportation (DOT).

ACTION: Proposed rule; reopening of comment period and notice of public meeting.

SUMMARY: DOT will hold a public meeting on April 8-9, 2008, in connection with its NPRM on passenger vessel disability access guidelines.

DATES: The comment period for the proposed rule published on January 23, 2007 (72 FR 2833), is reopened April 8, 2008, through April 23, 2008, to allow for the posting of comments related to the meeting held on April 8-9, 2008, from 9 a.m. to 4 p.m., Eastern Standard Time.

ADDRESSES: The meeting will be held at the DOT Headquarters located at 1200 New Jersey Avenue, SE., Washington, DC, in the DOT Conference Center, Rooms 8/9/10. Please enter at the New Jersey Avenue entrance, on the corner of M ST, SE., and New Jersey Avenue, SE. This entrance is accessible for individuals with disabilities.

FOR FURTHER INFORMATION CONTACT: For further information regarding the meeting, contact Brett Jortland, Attorney, DOT Office of the General Counsel, at 202.366.9314 or brett.jortland@dot.gov.

SUPPLEMENTARY INFORMATION: DOT will host a public meeting to discuss issues of interest raised as a result of DOT's Notice of Proposed Rulemaking on January 23, 2007 (72 FR 2833), regarding transportation for individuals with disabilities on passenger vessels.

Public attendance at the meeting is limited to space available. The meeting will be physically accessible to individuals with disabilities. DOT is housed in a secure government building that requires visitors to pass a security screening and be escorted within the building. Meeting attendees should plan to arrive suitably early to allow for clearance of security and escort to the meeting room. Parking in the neighborhood surrounding DOT Headquarters is extraordinarily limited, so meeting attendees are strongly advised to travel to the meeting by Metro; the Navy Yard Station on Metro's Green Line serves DOT headquarters.

The meeting will begin with introductory presentations from DOT regarding the NPRM, the Access Board regarding its companion rulemaking, and the passenger vessel industry to ensure that meeting attendees all have baseline knowledge of the types of vessels proposed for coverage under this regulation. Following these presentations, the meeting will proceed with open discussions moderated by a neutral facilitator. The discussions will follow the items on the meeting agenda. The agenda for the meeting will be placed in the docket for this rulemaking no later than March 21, 2008. The docket can be found at www.regulations.gov, under docket number OST-2007-26829.

Individuals wishing to attend the meeting must RSVP to Brett Jortland with their name, organization (if any), and identify whether they are representing persons with disabilities, the passenger vessel industry, or other interests. In addition to space limitations, DOT reserves the right to limit attendance to ensure that all viewpoints are represented in the meeting's discussions. Individuals requiring special services, such as sign language interpretation or other auxiliary aids, are asked to indicate this in their RSVP, which must be received no later than April 3, 2008.

Dated: March 10, 2008.
Neil Eisner,
Assistant General Counsel for Regulation and Enforcement, U.S. Department of Transportation.

[FR Doc. 08-1036 Filed 3-12-08; 4:01 pm]

BILLING CODE 4910-22-P